DEPARTMENT OF COMMERCE

National Oceanic and Atmospheric Administration

[I.D. 100305D]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet October 30-November 4, 2005. The Council meeting will begin on Monday, October 31, at 10 a.m., reconvening each day through Friday. All meetings are open to the public, except a closed session will be held at 10 a.m. on Monday, October 31 to address litigation and personnel matters. The Council will meet as late as necessary each day to complete its scheduled business.

ADDRESSES: The meetings will be held at the Hyatt Regency Islandia, 1441 Quivira Road, San Diego, CA 92109; telephone 619-224-1234.

Council address: Pacific Fishery Management Council, 7700 NE. Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks, Introductions

2. Roll Call

3. Executive Director's Report

4. Approve Agenda

B. Administrative Matters

1. Council Operating Procedures

2. Election of Council Chair and Vice Chair for 2006

3. Council Meeting Agenda Planning

4. Legislative Matters

5. Fiscal Matters

6. Appointments to Advisory Bodies, Standing Committees, and Other Forums

7. Council Three Meeting Outlook, Draft March 2006 Council Meeting Agenda, and Work Load Priorities

C.Coastal Pelagic Species Management

1. Pacific Sardine Stock Assessment and Harvest Guideline for 2006

2. Alternatives Analysis for Krill Management

D. Pacific Halibut Management

1. Proposed Changes to the Catch Sharing Plan and Annual Regulations

E. Enforcement Issues

1. State Enforcement Activity Report

F. Salmon Management

1. Salmon Methodology Review

2. Preseason Salmon Management Schedule for 2006

3. Klamath River Fall Chinook Conservation Objective

G. Habitat

1. Current Habitat Issues

H.Groundfish Management

1. NMFS Report

2. Stock Assessments and Rebuilding Analyses for 2007-2008 Groundfish Fisheries

3. Management Recommendations for 2007-2008 Groundfish Fisheries - Part I

4. Consideration of Inseason Adjustments in 2005 and 2006 Groundfish Fisheries

5. Off-Year Science Improvements

6. Amendment 18 (Bycatch) and Work Plan Practicability Analysis

7. Amendment 19 (Essential Fish Habitat)

8. Exempted Fish Permit (EFP) Applications for 2006

9. Management Measures for Spiny Dogfish and Pacific Cod for 2006

10. Expansion of Vessel Monitoring System

11. Update on Trawl Individual Quota Process and Community Concerns

12. Management Recommendations for 2007-2008 Groundfish Fisheries-Part II

13. Final Consideration of Inseason Adjustments, If Necessary

I. Marine Protected Areas

1. Channel Islands National Marine Sanctuary

J. Highly Migratory Species Management

1. NMFS Report

2. Proposed Protocol for Reviewing EFPs for Highly Migratory Species

3. Drift Gillnet Management

4. Albacore Management Planning

5. Bigeye Tuna Overfishing Response

Schedule of Ancillary Meetings

Sunday, October 30, 2005

Groundfish Advisory Subpanel-1 p.m.

Groundfish Management Team-1 p.m.

Budget Committee-3:30 p.m.

Trawl Individual Quota Committee-3:30 p.m.

Monday, October 31, 2005

Council Secretariat-8 a.m.

Groundfish Advisory Subpanel-8 a.m.

Groundfish Management Team-8 a.m.

Scientific and Statistical Committee-8 a.m.

Enforcement Consultants-5:30 p.m.

Tuesday, November 1, 2005

Council Secretariat-7 a.m.

California State Delegation-7 a.m.

Oregon State Delegation-7 a.m.

Washington State Delegation-7 a.m.

Groundfish Advisory Subpanel-8 a.m.

Groundfish Management Team-8 a.m.

Scientific and Statistical Committee-8 a.m.

Enforcement Consultants-As necessary

Wednesday, November 2, 2005

Council Secretariat-7 a.m.

California State Delegation-7 a.m.

Oregon State Delegation-7 a.m.

Washington State Delegation-7 a.m.

Groundfish Advisory Subpanel-8 a.m.

Groundfish Management Team-8 a.m.

Highly Migratory Species Advisory Subpanel-8 a.m.

Enforcement Consultants - As necessary

Thursday, November 3, 2005

Council Secretariat-7 a.m.

California State Delegation-7 a.m.

Oregon State Delegation-7 a.m.

Washington State Delegation-7 a.m.

Groundfish Advisory Subpanel-8 a.m.

Groundfish Management Team-8 a.m.

Highly Migratory Species Advisory Subpanel-8 a.m.

Enforcement Consultants-As necessary

Friday, November 4, 2005

Council Secretariat-7 a.m.

California State Delegation-7 a.m.

Oregon State Delegation-7 a.m.

Washington State Delegation-7 a.m.

Enforcement Consultants-As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: October 3, 2005.
Emily Menashes,
Acting Director, office of Sustainable Fisheries, National Marine Fisheries Service.

[FR Doc. E5-5487 Filed 10-5-05; 8:45 am]

BILLING CODE 3510-22-S